DEPARTMENT OF JUSTICE

Notice of Lodging of Proposed First Amendment to Consent Decree Under the Clean Air Act

On January 30, 2015, the Department of Justice lodged a proposed First Amendment to Consent Decree (“First Amendment”) with the United States District Court for the Central District of Illinois in the lawsuit entitled United States et al. v. Archer Daniels Midland Company, Civil Action No. 03-2066 HAB.

The First Amendment modifies the Consent Decree in this case, which resolved the claims alleged by the United States and Plaintiff-Interveners for violations of the Clean Air Act, including 42 U.S.C. 7470-7492 and certain implementing federal and state regulations at 52 seed and grain processing plants of the Defendant, Archer Daniels Midland Company (“ADM”), located in 11 states. Certain issues involving the implementation and compliance with emissions limits for volatile organic compounds (“VOC”) have arisen with respect to ADM's plants in Marshall, Minnesota and Columbus, Nebraska. Under the Consent Decree, ADM will perform a substitute project to reduce pollutants at the Marshall, Minnesota plant (the replacement of two coal-fired boilers with a natural gas boiler), and will be responsible for an offset of VOC emissions at a facility owned by Malnove Incorporated of Nebraska, located in Omaha, Nebraska (the removal of a high-VOC emitting rotogravure printing press and its replacement with a replacement low-VOC emitting press, or no replacement at all). At the time of lodging, the replacement of the two coal-fired boilers at the Marshall, Minnesota facility and the dismantling of the rotogravure printing press have already been accomplished.

In addition, the First Amendment modifies the original Consent Decree by allowing partial terminations of the Consent Decree for those ADM facilities that have completed all of the compliance obligations set forth in the Consent Decree. The parties have agreed that ADM has met all Consent Decree requirements for each of the facilities listed in Appendix A to the Consent Decree, and as such the Consent Decree will be terminated in part as to those facilities.

The publication of this notice opens a period for public comment on the First Amendment. Comments should be addressed to the Assistant Attorney General, Environment and Natural Resources Division, and should refer to United States et al. v. Archer Daniels Midland Company, D.J. Ref. No. 90-5-2-1-2035/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the First Amendment may be examined and downloaded at this Justice Department Web site: http://www.usdoj.gov/enrd/Consent_Decrees.html. We will provide a paper copy of the First Amendment upon written request and payment of reproduction costs. Please mail your request and payment to: Consent Decree Library, U.S. DOJ—ENRD, P.O. Box 7611, Washington, DC 20044-7611.

Please enclose a check or money order for $10.25 (25 cents per page reproduction cost) payable to the United States Treasury.

Randall M. Stone,
Acting Assistant Section Chief, Environmental Enforcement Section, Environment and Natural Resources Division.

[FR Doc. 2015-02275 Filed 2-4-15; 8:45 am]

BILLING CODE 4410-15-P